NATIONAL LABOR RELATIONS BOARD

Appointments of Individuals To Serve as Members of Performance Review Boards

5 U.S.C. 4314(c)(4) requires that the appointments of individuals to serve as members of performance review boards be published in the Federal Register. Therefore, in compliance with this requirement, notice is hereby given that the individuals whose names and position titles appear below have been appointed to serve as members of performance review boards in the National Labor Relations Board for the rating year beginning October 1, 2001 and ending September 30, 2002.

Name and Title

Richard L. Ahearn—Regional Director, Region 9

Frank V. Battle—Deputy Director of Administration

John F. Colwell—Chief Counsel to Board Member

Harold J. Datz—Chief Counsel to the Chairman

Yvonne T. Dixon—Director, Office of Appeals

John H. Ferguson—Associated General Counsel, Enforcement Litigation

Robert A. Giannasi—Chief Administration Law Judge

Lester A. Heltzer—Deputy Executive Secretary

John E. Higgins—Deputy General Counsel

Peter B. Hoffman—Regional Director, Region 34

Gloria Joseph—Director of Administration

Barry J. Kearney—Associated General Counsel, Advice

James R. Murphy—Chief Counsel to Board Member

Gary W. Shinners—Chief Counsel to Board Member

Richard A. Siegel—Associate General Counsel, Operations-Management

Lafe E. Solomon—Director, Office of Representation Appeals

Jeffrey D. Wedekind—Solicitor

Peter D. Winkler—Chief Counsel to Board Member

Dated: Washington, DC, March 10, 2003, by direction of the Board.
Lester A. Heltzer,
Deputy Executive Secretary.

[FR Doc. 03-6116 Filed 3-13-03; 8:45 am]

BILLING CODE 7545-01-M